COMMITTEE FOR PURCHASE FROM PEOPLE WHO ARE BLIND OR SEVERELY DISABLED

Procurement List; Proposed Additions and Deletions

AGENCY: Committee for Purchase From People Who Are Blind or Severely Disabled.

ACTION: Proposed additions to and deletions from the Procurement List.

SUMMARY: The Committee is proposing to add product(s) and service(s) to the Procurement List that will be furnished by nonprofit agencies employing persons who are blind or have other severe disabilities and deletes service(s) previously furnished by such agencies.

DATES: Comments must be received on or before: July 17, 2022.

ADDRESSES: Committee for Purchase From People Who Are Blind or Severely Disabled, 1401 S Clark Street, Suite 715, Arlington, Virginia 22202-4149.

FOR FURTHER INFORMATION CONTACT: For further information or to submit comments contact: Michael R. Jurkowski, Telephone: (703) 785-6404, or email CMTEFedReg@AbilityOne.gov.

SUPPLEMENTARY INFORMATION: This notice is published pursuant to 41 U.S.C. 8503(a)(2) and 41 CFR 51-2.3. Its purpose is to provide interested persons an opportunity to submit comments on the proposed actions.

Additions

If the Committee approves the proposed additions, the entities of the Federal Government identified in this notice will be required to procure the product(s) and service(s) listed below from nonprofit agencies employing persons who are blind or have other severe disabilities.

The following product(s) and service(s) are proposed for addition to the Procurement List for production by the nonprofit agencies listed:

Product(s)

NSN(s)—Product Name(s):

7025-00-NIB-0015—Universal Docking Station, Thunderbolt 3 and USB-C, Dual 4K, Windows and Mac, with Mounting Bracket

7025-00-NIB-0014—Universal Docking Station, USB-C and USB 3.0, Dual 2K, Windows and Mac, with Mounting Bracket

Designated Source of Supply: Chicago Lighthouse Industries, Chicago, IL

Contracting Activity: FEDERAL ACQUISITION SERVICE, GSA/FAS FURNITURE SYSTEMS MGT DIV

Distribution: A-List

Mandatory for: Total Government Requirement

Service(s)

Service Type: Kennel Caretaker Service

Mandatory for: U.S. Customs and Border Protection, U.S. Border Patrol-Ramey Sector, Aguadilla, PR

Designated Source of Supply: The Corporate Source, Inc., Garden City, NY

Contracting Activity: U.S. CUSTOMS AND BORDER PROTECTION, BORDER ENFORCEMENT CTR DIV

Service Type: Groundskeeping Service

Mandatory for: FAA, Houston (I90) TRACON, Houston, TX

Designated Source of Supply: PRIDE Industries, Roseville, CA

Contracting Activity: FEDERAL AVIATION ADMINISTRATION, 697DCK REGIONAL ACQUISITIONS SVCS

Service Type: Plant Maintenance Services

Mandatory for: GSA PBS Region 5, Paul Findley Federal Building, Springfield, IL

Designated Source of Supply: Challenge Unlimited, Inc., Alton, IL

Contracting Activity: PUBLIC BUILDINGS SERVICE, PBS R5

Service Type: Facility Support Services

Mandatory for: DHS, Transportation Security Administration Headquarters, Springfield, VA

Designated Source of Supply: Didlake, Inc., Manassas, VA

Contracting Activity: TRANSPORTATION SECURITY ADMINISTRATION, WEO

Deletions

The following service(s) are proposed for deletion from the Procurement List:

Service(s)

Service Type: Food Service Attendant

Mandatory for: U.S. Air Force, Indiana ANG, 181st Intelligence Wing Dining Facility, Terre Haute, IN, 888 East Vanatti Circle, Terre Haute, IN

Designated Source of Supply: Child-Adult Resource Services, Inc., Rockville, IN

Contracting Activity: DEPT OF THE ARMY, W7M7 USPFO ACTIVITY IN ARNG

Service Type: Custodial and Grounds Maintenance

Mandatory for: U.S. Department of Energy, Information Operations & Research Center, IF-608, Idaho Falls, ID, 1155 Foote Drive, Idaho Falls, ID

Designated Source of Supply: Development Workshop, Inc., Idaho Falls, ID

Contracting Activity: ENERGY, DEPARTMENT OF, SE-IDAHO OPERATIONS OFFICE

Service Type: Custodial service

Mandatory for: National Weather Service, Ohio River Forecast Center, Wilmington, OH, 1901 S State Route 134, Wilmington, OH

Designated Source of Supply: Goodwill Easter Seals Miami Valley, Dayton, OH

Contracting Activity: NATIONAL OCEANIC AND ATMOSPHERIC ADMINISTRATION, EASTERN ACQUISITION DIVISION—NORFOLK

Michael R. Jurkowski,
Acting Director, Business Operations.

[FR Doc. 2022-13087 Filed 6-16-22; 8:45 am]

BILLING CODE 6353-01-P